ENVIRONMENTAL PROTECTION AGENCY

[EPA-HQ-2008-0719; FRL-9526-01-OMS]

Information Collection Request Submitted to OMB for Review and Approval; Comment Request; National Pollutant Discharge Elimination System Program (Renewal)

AGENCY: Environmental Protection Agency (EPA).

ACTION: Notice.

SUMMARY: The Environmental Protection Agency (EPA) has submitted an information collection request (ICR), “Information Collection Request (ICR) Supporting Statement for The National Pollutant Discharge Elimination System Program (Renewal)” (EPA ICR Number 0229.25, OMB Control Number 2040-0004) to the Office of Management and Budget (OMB) for review and approval in accordance with the Paperwork Reduction Act. This is a proposed extension of the ICR, which is currently approved through March 31, 2022. Public comments were previously requested via the Federal Register on July 29, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 7, 2022.

ADDRESSES: Submit your comments, referencing Docket ID Number EPA-HQ-2008-0719, t online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joshua Baehr, National Program Branch, Water Permits Division, OWM Mail Code: 4203M, Environmental Protection Agency, 1201 Constitution Ave. NW, Washington, DC 20460; telephone number: 202-564-2277; email address: Baehr.Joshua@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This Information Collection Request (ICR) renews the National Pollutant Discharge Elimination System (NPDES) Program ICR and consolidates the information collection burden and costs associated with activities previously reported in 18 of the NPDES program or NPDES-related ICRs. It calculates the information collection burden and costs associated with the NPDES program, identifies the types of activities regulated under the NPDES program, describes the roles and responsibilities of state governments and the Agency, and presents the program areas that address the various types of regulated activities. This renewal documents the addition of the burden and costs for the four existing NPDES ICRs listed below. Once this renewal ICR is approved, the following ICRs will be discontinued: Public Notification Requirements for Combined Sewer Overflows (CSOs) in the Great Lakes Basin (OMB control no. 2040-0293, EPA ICR 2562.03, expiration date 04/30/24); Effluent Limitation Guidelines and Standards for the Dental Category (OMB control no. 2040-0287, EPA ICR no. 2514.03, expiration 11/30/23); 2020 NPDES Multi-Sector General Permit (MSGP) for Industrial Stormwater Discharges (OMB control no. 2040-0300, EPA ICR no. 2612.02, expiration 03/31/24); and NPDES Electronic Reporting Rule—Phase 2 Extension (OMB Control No.: 2020-0037, EPA ICR No. 2617.02, expiration 12/31/2023).

The Clean Water Act (CWA) provides that NPDES permits are required for the discharge of pollutants to waters of the United States. The CWA requires EPA to develop and implement the NPDES permit program. CWA section 402(b) allows states to acquire authority to administer the NPDES program, enabling them to issue NPDES permits for discharges within the state. At present, 47 states and the U.S. Virgin Islands are authorized to administer the NPDES permit program. In states that do not have authority for these programs, the Agency administers the program and issues NPDES permits. Because some permit applications are processed by states and some by EPA, this ICR calculates government burden and cost for both authorized states and EPA. See Appendix F.1 for a copy of the authorizing regulation.

Form Numbers: EPA Form 3510-1; EPA Form 3510-2A; EPA Form 3510-2B; EPA Form 3510-2C; EPA Form 3510-2D; EPA Form 3510-2E; EPA Form 3510-2F; EPA Form 3510-2S.

Respondents/affected entities: Any point source discharger of pollutants, publicly owned and privately owned treatment works (POTWs and PrOTWs), industrial dischargers to POTWs and PrOTWs, industrial and commercial dischargers to water of the United States, sewage sludge management and disposal operations, large vessels, dischargers of stormwater, construction sites, municipalities, pesticide applicators, local and state governments.

Respondent's obligation to respond: Mandatory, sections 301, 302, 304, 306, 307, 308, 316(b), 401, 402, 403, 405, and 510 of the CWA; the 1987 Water Quality Act (WQA) revisions to CWA section 402(p); 40 CFR parts 122, 123, 124, and 125 (and parts 501 and 503 for Biosolids); and the Great Lakes Critical Programs Act (CPA).

Estimated number of respondents: 827,180 (total). (Includes 637 States/Tribes/Territories).

Frequency of response: Varies depending on the specific response activity and can range from ongoing and monthly to once every five years.

Total estimated burden: 31,143,503 hours (per year). Burden is defined at 5 CFR 1320.03(b).

Total estimated cost: $1,732,287,018 (per year), includes $22,999,181 annualized capital or operation & maintenance costs.

Changes in the estimates: The majority of the burden hour increase occurred as a result of an increase in EPA's estimates of permittee respondents, which is largely attributed to improvements in the NPDES Integrated Compliance Information System (ICIS-NPDES) database, implementation of the Electronic Reporting Rule Phase 1, and refined estimates. This ICR eliminates the initial permit application and compliance activities for existing Cooling Water Intake Structure (CWIS) facilities, as these actions have been completed by all existing CWIS facilities. The compliance and administration of small vessels general permit (sVGP) has been removed, which lowered the number of vessel respondents significantly.

Courtney Kerwin,
Director, Regulatory Support Division.

[FR Doc. 2022-02169 Filed 2-2-22; 8:45 am]

BILLING CODE 6560-50-P